DEPARTMENT OF STATE

[Public Notice 8008]

Culturally Significant Objects Imported for Exhibition Determinations: “Roads of Arabia: Archaeology and the History of the Kingdom of Saudi Arabia”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000 (and, as appropriate, Delegation of Authority No. 257 of April 15, 2003), I hereby determine that the objects to be included in the exhibition “Roads of Arabia: Archaeology and the History of the Kingdom of Saudi Arabia,” imported from abroad for temporary exhibition within the United States, are of cultural significance. The objects are imported pursuant to loan agreements with the foreign owners or custodians. I also determine that the exhibition or display of the exhibit objects at The Arthur M. Sackler Gallery, Smithsonian Institution in Washington, DC from on or about November 17, 2012, until on or about February 24, 2013; the Museum of Fine Arts, Houston in Houston, Texas from on or about November 15, 2013 until on or about February 1, 2014 (dates still being finalized); and possibly also The Field Museum in Chicago, Illinois from on or about March 1, 2014 until on or about June 30, 2014; and/or the San Francisco Asian Art Museum in San Francisco, California from on or about July 30, 2014 until on or about September 30, 2014 (venues and dates still being finalized); and at possible additional exhibitions or venues yet to be determined, is in the national interest. I have ordered that Public Notice of these Determinations be published in the Federal Register.

FOR FURTHER INFORMATION CONTACT: For further information, including a list of the exhibit objects, contact Ona M. Hahs, Attorney-Adviser, Office of the Legal Adviser, U.S. Department of State (telephone: 202-632-6473). The mailing address is U.S. Department of State, SA-5, L/PD, Fifth Floor (Suite 5H03), Washington, DC 20522-0505.

Dated: August 27, 2012.
J. Adam Ereli,
Principal Deputy Assistant Secretary, Bureau of Educational and Cultural Affairs, Department of State.

[FR Doc. 2012-21705 Filed 8-31-12; 8:45 am]

BILLING CODE 4710-05-P